NUCLEAR REGULATORY COMMISSION

[NRC-2008-0643]

Draft Regulatory Guide: Public Meeting

AGENCY: Nuclear Regulatory Commission.

ACTION: Notice of Public Meeting on Draft Regulatory Guide, DG-1203.

FOR FURTHER INFORMATION CONTACT: Robert G. Roche-Rivera, Project manager, Structural Geotechnical and Seismic Engineering Branch, Division of Engineering, Office of Nuclear Regulatory Research, U.S. Nuclear Regulatory Commission, Washington, DC 20555-0001. Telephone: (301) 251-7645; fax number: (301) 521-7420; e-mail: Robert.Roche@nrc.gov.

SUPPLEMENTARY INFORMATION:

I. Introduction

The U.S. Nuclear Regulatory Commission (NRC) has revised Draft Guide 1203 considering NRC staff recommendations and public comments. This Draft Guide, originally entitled, “Containment Performance for Pressure Loads”, describes methods that the staff of the NRC considers acceptable for evaluating containment structural integrity under internal pressurization above design pressure, in accordance with regulatory requirements and Commission's performance goals for containment structures under internal pressurization.

II. Further Information

The NRC staff invites the public for a meeting to discuss the revised Draft Guide 1203. This is a Category 2 Meeting. The public is invited to participate in this meeting by discussing regulatory issues with the U.S. Nuclear Regulatory Commission (NRC) at designated points on the agenda. The meeting will take place on Thursday October 8, 2009 from 1 p.m. to 4 p.m. at the following location:

• U.S. Nuclear Regulatory Commission, Church Street Building, Room CSB-6B1, 21 Church Street, Rockville, MD 20850.

Interested members of the public can also participate in the meeting via a toll-free teleconference. For details, please call the meeting contact listed above.

The NRC provides reasonable accommodations to individuals with disabilities where appropriate. If you need a reasonable accommodation to participate in this meeting (e.g., sign language), or need this meeting notice or other information from the meeting in another format (e.g., Braille, large print), please notify the NRC's meeting contact. Determinations on requests for reasonable accommodation will be made on a case-by-case basis.

Dated at Rockville, Maryland, this 23rd day of September, 2009.
For the Nuclear Regulatory Commission.
Rosemary T. Hogan,
Chief, Structural Geotechnical and Seismic Engineering Branch, Division of Engineering, Office of Nuclear Regulatory Research.

Agenda for Public Meeting Regarding Draft Regulatory Guide DG-1203: Containment Performance for Pressure Loads

1 p.m.-4 p.m. Thursday October, 8, 2009, NRC, Church Street Building, Rockville, MD (Room CSB-6B1).

1-1:10 Introduction and Opening Remarks;

1:10-1:50 Presentation—Overview of revised Draft Guide 1203 and resolution to public comments;

1:50-2 Break;

2-4 Discussion on Draft Guide 1203;

4 Adjourn.

[FR Doc. E9-23571 Filed 9-29-09; 8:45 am]

BILLING CODE 7590-01-P